DEPARTMENT OF ENERGY

Federal Energy Regulatory Commission

Combined Notice of Filings #1

Take notice that the Commission received the following electric corporate filings:

Docket Numbers: EC19-60-000.

Applicants: NedPower Mount Storm LLC.

Description: Application for Authorization Under Section 203 of the Federal Power Act, et al. of NedPower Mount Storm, LLC.

Filed Date: 2/22/19.

Accession Number: 20190222-5195.

Comments Due: 5 p.m. ET 3/15/19.

Docket Numbers: EC19-61-000.

Applicants: Apple Blossom Wind, LLC, Black Oak Wind, LLC, Cedar Creek II, LLC, Flat Ridge 2 Wind Energy LLC, Fowler Ridge II Wind Farm LLC, Mehoopany Wind Energy LLC.

Description: Application for Authorization Under Section 203 of the Federal Power Act, et al. of Apple Blossom Wind, LLC, et al.

Filed Date: 2/22/19.

Accession Number: 20190222-5200.

Comments Due: 5 p.m. ET 3/15/19.

Take notice that the Commission received the following electric rate filings:

Docket Numbers: ER18-2342-003.

Applicants: GridLiance Heartland LLC.

Description: Compliance filing: GridLiance Heartland LLC—ER18-2342 Compliance Filing to be effective N/A.

Filed Date: 2/22/19.

Accession Number: 20190222-5157.

Comments Due: 5 p.m. ET 3/15/19.

Docket Numbers: ER19-1102-000.

Applicants: NextEra Energy Transmission West, LLC.

Description: § 205(d) Rate Filing: Revised Formula Rate Implementation Protocols to be effective 4/24/2019.

Filed Date: 2/22/19.

Accession Number: 20190222-5102.

Comments Due: 5 p.m. ET 3/15/19.

Docket Numbers: ER19-1103-000.

Applicants: Midcontinent Independent System Operator, Inc.

Description: § 205(d) Rate Filing: 2019-02-22 Attachment X revisions for Hybrid Interconnection to be effective4/24/2019.

Filed Date: 2/22/19.

Accession Number: 20190222-5122.

Comments Due: 5 p.m. ET 3/15/19.

Docket Numbers: ER19-1104-000.

Applicants: PJM Interconnection, L.L.C.

Description: Tariff Cancellation: Notice of Cancellation of ISA/SA No. 3986, Queue No. W3-099 to be effective 9/10/2018.

Filed Date: 2/22/19.

Accession Number: 20190222-5126.

Comments Due: 5 p.m. ET 3/15/19.

Docket Numbers: ER19-1105-000.

Applicants: Central Maine Power Company.

Description: § 205(d) Rate Filing: Schedule 20A Service Agreements with Brookfield Energy Marketing LP (85 MW) to be effective 1/1/2020.

Filed Date: 2/22/19.

Accession Number: 20190222-5132.

Comments Due: 5 p.m. ET 3/15/19.

Docket Numbers: ER19-1106-000.

Applicants: The United Illuminating Company.

Description: § 205(d) Rate Filing: Schedule 20A Service Agreements with Brookfield Energy Marketing LP (1 MW) to be effective 1/1/2020.

Filed Date: 2/22/19.

Accession Number: 20190222-5133.

Comments Due: 5 p.m. ET 3/15/19.

Docket Numbers: ER19-1107-000.

Applicants: The United Illuminating Company.

Description: § 205(d) Rate Filing: Schedule 20A Service Agreements with Brookfield Energy Marketing LP (32 MW) to be effective 9/1/2020.

Filed Date: 2/22/19.

Accession Number: 20190222-5134.

Comments Due: 5 p.m. ET 3/15/19.

Docket Numbers: ER19-1108-000.

Applicants: Citigroup Commodities Canada ULC.

Description: Baseline eTariff Filing: Market-Based Rate Application to be effective 5/1/2019.

Filed Date: 2/22/19.

Accession Number: 20190222-5158.

Comments Due: 5 p.m. ET 3/15/19.

Docket Numbers: ER19-1109-000.

Applicants: Windhub Solar A, LLC.

Description: Baseline eTariff Filing: Certificate of Concurrence to Co-Tenancy and Shared Facilities Agreement to be effective 2/25/2019.

Filed Date: 2/25/19.

Accession Number: 20190225-5000.

Comments Due: 5 p.m. ET 3/18/19.

Docket Numbers: ER19-1110-000.

Applicants: Windhub Solar B, LLC.

Description: Baseline eTariff Filing: Certificate of Concurrence to Co-Tenancy and Shared Facilities Agreement to be effective 2/25/2019.

Filed Date: 2/25/19.

Accession Number: 20190225-5001.

Comments Due: 5 p.m. ET 3/18/19.

Docket Numbers: ER19-1111-000.

Applicants: Southwest Power Pool, Inc.

Description: § 205(d) Rate Filing: 3481 AEP and AECI Attachment AO to be effective 5/1/2019.

Filed Date: 2/25/19.

Accession Number: 20190225-5016.

Comments Due: 5 p.m. ET 3/18/19.

Docket Numbers: ER19-1112-000.

Applicants: Flat Ridge 2 Wind Energy LLC, Fowler Ridge II Wind Farm LLC, Southwestern Electric Power Company, Indiana Michigan Power Company, Ohio Power Company.

Description: Request for Authorization to Make Affiliate Transactions of Flat Ridge 2 Wind Energy LLC, et al.

Filed Date: 2/22/19.

Accession Number: 20190222-5194.

Comments Due: 5 p.m. ET 3/15/19.

Docket Numbers: ER19-1113-000.

Applicants: Southwestern Public Service Company.

Description: § 205(d) Rate Filing: SPS-GSEC-LYNGR-IA-Thunderhead-708-0.0.0 to be effective 4/27/2019.

Filed Date: 2/25/19.

Accession Number: 20190225-5050.

Comments Due: 5 p.m. ET 3/18/19.

Docket Numbers: ER19-1114-000.

Applicants: Southwest Power Pool, Inc.

Description: § 205(d) Rate Filing: 1910R15 Southwestern Public Service Company NITSA NOA to be effective2/1/2019.

Filed Date: 2/25/19.

Accession Number: 20190225-5051.

Comments Due: 5 p.m. ET 3/18/19.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: February 25, 2019.
Nathaniel J. Davis, Sr.,
Deputy Secretary.

[FR Doc. 2019-03740 Filed 3-1-19; 8:45 am]

BILLING CODE 6717-01-P